DEPARTMENT OF THE INTERIOR

Geological Survey

[G15AC00486]

Agency Information Collection Activities: Request for Comments on the Assessment of Effects of Climate on Waterfowl

AGENCY: U.S. Geological Survey (USGS), Interior.

ACTION: Notice of a new information collection, Assessment of Effects of Climate on Waterfowl.

SUMMARY: We (the U.S. Geological Survey) are notifying the public that we have submitted to the Office of Management and Budget (OMB) the information collection request (ICR) described below. To comply with the Paperwork Reduction Act of 1995 (PRA) and as part of our continuing efforts to reduce paperwork and respondent burden, we invite the general public and other Federal agencies to take this opportunity to comment on this ICR.

DATES: To ensure that your comments on this ICR are considered, OMB must receive them on or before September 9, 2016.

ADDRESSES: Please submit written comments on this information collection directly to the Office of Management and Budget (OMB), Office of Information and Regulatory Affairs, Attention: Desk Officer for the Department of the Interior, via email: (OIRA_SUBMISSION@omb.eop.gov); or by fax (202) 395-5806; and identify your submission with `OMB Control Number 1028—NEW ASSESSMENT OF EFFECTS OF CLIMATE ON WATERFOWL'. Please also forward a copy of your comments and suggestions on this information collection to the Information Collection Clearance Officer, U.S. Geological Survey, 12201 Sunrise Valley Drive MS 807, Reston, VA 20192 (mail); (703) 648-7195 (fax); or gs-info_collections@usgs.gov (email). Please reference `OMB Information Collection 1028—NEW: ASSESSMENT OF EFFECTS OF CLIMATE ON WATERFOWL' in all correspondence.

FOR FURTHER INFORMATION CONTACT: Brad Griffith, Leader, USGS, Alaska Cooperative Fish and Wildlife Research Unit at (907) 474-5067 or ffdbg@usgs.gov.

You may also find information about this ICR at www.reginfo.gov.

SUPPLEMENTARY INFORMATION:

I. Abstract

The USGS National Climate Change and Wildlife Science Center coordinates the research activities of 8 Regional Climate Science Centers. To increase efficiency of investigations, the relevance of research topics and the effectiveness of research it is critical to identify the types of information that are most critical for the development of a focused and integrated multi-regional research program. This is particularly true for wildlife species that migrate (e.g., waterfowl) among regions in which the direction and strength of climate effects on wildlife populations and their habitats are expected to be quite variable. This collection seeks to identify (1) the most important habitat and harvest factors that affect waterfowl population size on breeding, migratory and winter ranges, (2) the demographic traits (fecundity or survival) that are affected by these factors, (3) the likely direction and magnitude of climate effects on the most important waterfowl habitat and harvest factors that affect waterfowl population size and (4) the highest priority research needs on breeding, migratory and wintering ranges. We are collecting this information with a questionnaire survey of a sample of professional waterfowl researchers and managers because scientific papers that present this information are not available. The information we collect will identify the most important research topics within and among Regional Climate Science Centers in regard to climate effects on migratory waterfowl. We will (1) summarize the results, (2) present them at a workshop at a national scientific meeting, (3) use this presentation to facilitate further discussion among professional waterfowl researchers and managers who attend the workshop regarding research priorities and (4) publish the results of the survey and the workshop discussion in a refereed scientific publication.

II. Data

OMB Control Number: 1028-NEW.

Title: ASSESSMENT OF EFFECTS OF CLIMATE ON WATERFOWL.

Type of Request: Approval of new information collection.

Respondent Obligation: Voluntary.

Frequency of Collection: One time.

Description of Respondents: Professional waterfowl researchers and managers that are employed by State or Federal government agencies or Private organizations such as Ducks Unlimited.

Estimated Total Number of Annual Responses: 250; Private 125, State and Local Govt. 125.

Estimated Time per Response: We estimate that it will take 20 minutes per person to complete the questionnaire for a single waterfowl species and that approximately half of the respondents will take an additional 10 minutes to complete the survey for a second species.

Estimated Annual Burden Hours: 106 hours.

Estimated Reporting and Recordkeeping “Non-Hour Cost” Burden: There are no “non-hour cost” burdens associated with this collection of information.

Public Disclosure Statement: The PRA (44 U.S.C. 3501, et seq.) provides that an agency may not conduct or sponsor and you are not required to respond to a collection of information unless it displays a currently valid OMB control number. Until the OMB approves a collection of information, you are not obliged to respond.

Comments: On 10/30/2015, we published a Federal Register notice (80 FR 66931) announcing that we would submit this ICR to OMB for approval and soliciting comments. The comment period closed on 12/29/2015. USGS received one public comment regarding the general hardship of birdlife and a statement that no information needed to be collected because the information was already collected by every state. This latter statement was not correct as we found when we queried five professional waterfowl biologists asking whether any similar surveys to ours were being, or had been, conducted and all said they knew of none and that our survey work would be useful.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask us and the OMB in your comment to withhold your personal identifying information from public review, we cannot guarantee that it will be done.

Legal Authority: Migratory Bird Treaty Act of 1918 (MBTA), codified at 16 U.S.C. 703-712.

John Thompson,
Deputy Chief, U.S. Geological Survey, Cooperative Research Units.

[FR Doc. 2016-18928 Filed 8-9-16; 8:45 am]

BILLING CODE 4338-11-P